DEPARTMENT OF COMMERCE

[I.D. 082701A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Billfish Certificate of Eligibility.

Form Number(s): None.

OMB Approval Number: 064-0216.

Type of Request: Regular submission.

Burden Hours: 43.

Number of Respondents: 350.

Average Hours Per Response :20 minutes to complete a certificate, 2 minutes for recordkeeping.

Needs and Uses: Persons are the first receivers of billfish are required to complete a Certificate of Eligibility as a condition for domestic trade of fresh or frozen billfish. Dealers or processors who subsequently receive or possess billfish must retain a copy of the Certificate while processing the billfish. The purpose of the requirement is to ensure that Atlantic billfish are retained as a recreational resources, and that any billfish entering the commercial trade have not been harvested in the Atlantic Ocean management unit.

Affected Public: Business and other for-profit organizations.

Frequency: On occasion.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: August 23, 2001.
Gwellnar Banks,
Management Analyst, Office of the Chief Information Officer.

[FR Doc. 01-21953 Filed 8-29-01; 8:45 am]

BILLING CODE 3510-22-S